DEPARTMENT OF COMMERCE

National Oceanic and Atmospheric Administration

50 CFR Part 679

[Docket No. 230628-0158]

RIN 0648-BL69

Monitoring Requirements for Pot Catcher/Processors Participating in Bering Sea/Aleutian Islands Groundfish Fisheries

AGENCY: National Marine Fisheries Service (NMFS), National Oceanic and Atmospheric Administration (NOAA), Commerce.

ACTION: Proposed rule; request for comments.

SUMMARY: NMFS proposes regulatory changes to revise the monitoring requirements for pot gear catcher/processors (CPs) participating in Bering Sea/Aleutian Islands (BSAI) groundfish fisheries. This action is needed to address management challenges created by observer data collection errors that have impacted catch estimates. This action would improve observer data collection by requiring participants to carry a Level 2 observer and comply with pre-cruise meeting notifications, and by requiring certification and testing standards for participants choosing any of the following voluntary monitoring options: providing observer sampling stations, installing motion-compensated platform and flow scales, and carrying additional observers on the vessel. Additionally, this action would change the location of existing monitoring regulations for longline CPs and halibut deck sorting by moving them under a single, new subpart within the regulations. This action promotes the goals and objectives of the Magnuson-Stevens Fishery Conservation and Management Act (Magnuson-Stevens Act), the Fishery Management Plan (FMP) for Groundfish of the BSAI Management Area, and other applicable laws.

DATES: Submit comments on or before August 7, 2023.

ADDRESSES: You may submit comments on this document, identified by NOAA-NMFS-2022-0085, by any of the following methods:

• Electronic Submission: Submit all electronic public comments via the Federal e-Rulemaking Portal. Go to https://www.regulations.gov and enter NOAA-NMFS-2022-0085 in the Search box. Click on the “Comment” icon, complete the required fields, and enter or attach your comments.

• Mail: Submit written comments to the Assistant Regional Administrator, Sustainable Fisheries Division, Alaska Region NMFS. Mail comments to P.O. Box 21668, Juneau, AK 99802-1668.

• Fax: 907-586-7465; Attn: Assistant Regional Administrator, Sustainable Fisheries Division.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the Regulatory Impact Review (RIR; referred to as the Analysis) prepared for this action are available from www.regulations.gov or from the NMFS Alaska Region website at https://www.fisheries.noaa.gov/region/alaska.

Written comments regarding the burden-hour estimates or other aspects of the collection-of-information requirements contained in this proposed rule may be submitted to NMFS at the above address or to www.reginfo.gov/public/do/PRAMain. Find the particular information collections by selecting “Currently under 30-day Review—Open for Public Comments” or by using the search function.

FOR FURTHER INFORMATION CONTACT: Mason Smith, 907-586-7228, mason.smith@noaa.gov.

SUPPLEMENTARY INFORMATION:

Authority for Action

NMFS manages the groundfish fisheries in the exclusive economic zone (EEZ) of the BSAI under the FMP for Groundfish of the BSAI Management Area. The North Pacific Fishery Management Council (Council) prepared the FMP under the authority of the Magnuson-Stevens Act, 16 U.S.C. 1801 et seq. Regulations governing U.S. fisheries and implementing FMPs appear at 50 CFR parts 600 and 679.

Background

NMFS proposes to improve data collection by observers deployed by the North Pacific Observer Program for management of the BSAI pot CP sector by revising the existing monitoring requirements for the BSAI pot CP sector. At its February 2023 meeting, the Council took final action to recommend additional monitoring requirements for the BSAI pot CP sector. The following sections of this preamble describe: (1) the North Pacific Observer Program, (2) the BSAI pot CP sector, (3) the need for this action, (4) the elements of this proposed rule, and (5) the regulatory changes made by this proposed rule.

North Pacific Observer Program (Observer Program)

The Observer Program is an integral component in the management of North Pacific fisheries. The Observer Program was created with the implementation of the Magnuson-Stevens Act in the mid-1970s and has evolved from primarily observing foreign fleets to observing domestic fleets, including the BSAI pot CP sector. Regulations at subpart E of 50 CFR part 679 implement the Observer Program and prescribe how NMFS-certified observers will be deployed on board vessels and in processing plants to obtain information necessary for the conservation and management of the groundfish and halibut fisheries off Alaska. The information collected by observers contributes to the best available scientific information used to manage the fisheries under the Magnuson-Stevens Act.

Observers collect biological samples and gather information on total catch, including bycatch and interactions with protected species. Fishery managers use data collected by observers to manage groundfish catch and bycatch limits established in regulation and to inform the development of management measures that minimize bycatch and reduce fishery interactions with protected resources. Scientists use observer-collected data for stock assessments and marine ecosystem research.

Bering Sea/Aleutian Islands Pot CP Sector

The BSAI pot CP sector is managed in part under the License Limitation Program (LLP), which requires an LLP license endorsed for the directed fishing of groundfish in the BSAI. The LLP was recommended by the Council and approved and implemented by NMFS to address concerns of excess fishing capacity, and it limits the number, size, and specific operation of vessels deployed in the groundfish fisheries in the EEZ off Alaska (63 FR 52642, October 1, 1998; 50 CFR 679.4(k)(4)). The pot CP sector targets primarily Pacific cod using pot gear with single lines. Each vessel is currently required to deploy a certified observer to monitor their fishing activity. The BSAI pot CP sector is relatively small, with eight LLP licenses holding endorsements to fish for Pacific cod with pot gear in the Bering Sea (BS) or Aleutian Islands (AI), and only six of which were active in 2022. Pacific cod seasons in the BSAI are often short, lasting approximately 1 to 2 weeks during the A season (beginning January 1) and the B season (beginning September 1) in recent years. The fast pace of fishing with single pot gear, high sampling workload, and the need for close communication between the captain and observer make the BSAI pot CP sector one of the most difficult fisheries for the Observer Program to sample. This sector is separate from CPs using pot gear for the groundfish Community Development Quota (CDQ) Program (63 FR 30381, June 4, 1998), and this action would not change any aspects of the groundfish CDQ regulations (50 CFR 679.32). The CDQ Program allocates a percentage of BSAI quotas for groundfish, prohibited species, halibut, and crab to eligible communities. The CDQ program, which was established to provide eligible western Alaska villages with the opportunity to participate and invest in BSAI fisheries and to support the economic development of local economies in western Alaska, already requires the same or stricter provisions as those proposed for the non-CDQ pot CP sector in this action.

Need for This Action

Observer data is NMFS' preferred source of information for estimating catch and discards in the BSAI pot CP fishery. Observer data is used by NMFS for inseason management in near real time, making it imperative that this data is as complete and accurate as possible. Currently, NMFS' management of the BSAI pot CP fishery is difficult due to a high rate of observer data loss, either by deletion by the Observer Program due to flawed data collection, or by observers failing to collect data in the first place.

Observer data collection in the BSAI pot CP fishery is based on a random sampling design of units (e.g., pots) of fishing effort. The sampling frame, which is the list of units from which the random selections will be sampled, for pot vessels can be difficult to define if pots are pulled out of order or in a varied way, which can be a frequent occurrence under rough seas. Additionally, the fast pace of pot CP fishing creates a high sampling workload for the observer and increases the need for close communication between that observer and the vessel captain and crew to ensure that the correct pots are sampled, which can be challenging for first or second-time observers.

Across all sectors, data deletions (i.e., unusable data) are strongly correlated with inexperienced observers, with the majority of deletions occurring from trips on an observer's first or second contract (see Section 2.1 of the Analysis). Although pot CPs are one of the more challenging deployments for observers, the BSAI pot CP fishery is one of the only CP sectors in the full coverage (100 percent of trips observed) category that does not require a Lead Level 2 (LL2) deployment endorsement. LL2 deployment endorsements can only be obtained by an observer after they complete 2 cruises (contracts) of at least 10 days each, sample 30 sets of nontrawl gear, and successfully complete LL2 training or briefings. Because a LL2 observer deployment is not currently required in the BSAI pot CP fishery, there is a high rate of first-time observers being assigned to BSAI pot CP vessels. This has compounded the issues with data deletions in the fishery by creating a revolving scenario of new observers being assigned to these vessels each year. This action, which would require BSAI pot CP participants to carry at least one Level 2 observer at all times, is needed to ensure the deployment of experienced observers on BSAI pot CP vessels. Doing so would reduce the likelihood of data collection errors or deletion and total loss of data. A Level 2 endorsement is one step below a LL2 endorsement and can be obtained by an observer after they complete the initial observer certification, sample 60 data collection days, and successfully meet expectations on their most recent cruise (50 CFR 679.53(a)(5)(iv) and (v)).

Observer sampling on a pot CP vessel requires close communication between the observer and vessel captain. Because observers use a sampling design based on units of fishing effort, creating the sampling frame needed for random samples on pot vessels can be difficult to define if pots are pulled out of order or in a varied way. A pre-cruise meeting would provide an opportunity for Alaska Fisheries Science Center Fisheries Monitoring and Analysis Division staff to participate in a conversation between the vessel crew and a newly assigned observer prior to embarking on a trip. This would allow Alaska Fisheries Science Center Fisheries Monitoring and Analysis Division staff to clarify expectations and provide knowledgeable advice about anticipated sampling scenarios that an observer may encounter at sea and to better prepare the observer and the crew to work collaboratively and develop clear communication strategies. This action is necessary to ensure proper sampling design, which in turn will reduce data deletions attributable to sampling design defects.

Accurate observer haul estimates are important to the BSAI pot CP sector, as well as to NMFS. Participants in the BSAI pot CP fishery have expressed concern with observer haul estimates compared to vessel production weights. Precise haul estimates are important to the sector for catch accounting during their short seasons, which are typically only a few weeks long. To obtain total haul weight estimates, observers measure the weights of fish from a set of randomly sampled pots within a haul, which are later extrapolated to the total numbers of fish tallied for that haul. NMFS has received feedback and inquiries from several active vessels about adding observer coverage, workstations, and scales to address concerns about extrapolated estimates. Due to the fast pace of fishing and high workload, observers must carefully plan to ensure they adequately sample each randomly selected pot. This action would authorize vessels to voluntarily provide a second observer to allow more pots to be sampled, resulting in potentially greater precision for total haul estimates. This action would additionally authorize vessels to voluntarily provide observer workstations with a motion-compensated platform (MCP) scale, as well as a NMFS-approved flow scale to measure the total haul weight of Pacific cod. Observer workstations may increase precision by providing an improved workspace for storing fish in an observer's sample and providing dedicated space to collect data, and the motion-compensated scales may provide more rapid and accurate weigh information. A NMFS-approved scale to measure the total haul weight of Pacific cod may reduce errors by eliminating the need to extrapolate the total numerical estimate of Pacific cod catches from the weighed samples. The BSAI pot CP fishery is currently not required to provide an observer workstation or measure total haul weights of Pacific cod on a NMFS-approved scale. Some vessels already have this equipment installed due to their participation in other fisheries requiring such equipment. However, regulations are needed to ensure proper testing and maintenance of the equipment for its use in this BSAI pot CP fishery.

The problems with data deletion in the BSAI pot CP fishery are compounded by the fishery's small number of participants and its short seasons. Since at least 2014, whenever deletion of observer data has occurred in the fishery due to data collection errors, it has resulted in substantial changes to the estimates of catch and bycatch. Due to the short (1 to 2 week) BSAI Pacific cod seasons, each vessel may have only one individual observer who stays onboard for the entire season. In these cases, if data collected by the observer is deleted or changed during the post-season debriefing process, it can result in the loss of data for an entire vessel during that season. Since 2011, there have been 12 instances in which nearly all deployment data collected on board a pot CP vessel was deleted; 10 of those instances involved an observer on their first or second contract. With only six active vessels during this time period, any deletion of or change in data from a vessel had a disproportionately large effect on catch estimates compared to the effect of data loss or change in data in fisheries with larger fleets. In some cases in the BSAI pot CP fisheries, data changes after the season closure led to a near doubling of harvest estimates. Since 2011, the sector's utilization of total allowable catch (TAC) has ranged from 80-119 percent, and imprecise catch estimates could result in a TAC overage or TAC remaining that could otherwise have been harvested.

The regulatory changes to monitoring requirements proposed in this action are intended to reduce the likelihood of data loss on BSAI pot CP vessels by ensuring only experienced observers are deployed on BSAI pot CP vessels and ensuring effective collaboration between the observer and the captain and crew. This action additionally provides three voluntary monitoring options for pot CP vessels to install equipment or implement operational requirements that may further improve the precision of observer data. In February 2023, the Council took final action to recommend the suite of measures in this action. In the description below, the regulatory changes in this action are organized into two required elements (elements 1 and 2) and an optional element (element 3).

This Proposed Rule

This action would require participants to carry at least one Level 2 observer deployed at all times, require participants to comply with pre-cruise meeting notifications, and require certification and testing standards for participants choosing any of the following voluntary monitoring options: providing observer sampling stations, installing motion-compensated platform and flow scales, and carrying additional observers on board vessel.

This proposed rule, if adopted, would restructure subpart I and subpart K of 50 CFR part 679 to combine three sets of regulations under a single subpart, as follows: (1) existing regulations for longline CPs; (2) this action's proposed regulations for pot CPs; and (3) those CPs and motherships participating in the halibut deck sorting program. This restructuring would make no substantive changes to the regulatory requirements for longline CPs or the halibut deck sorting program, but is necessary to streamline similar monitoring regulations for CPs and motherships to provide the public easier access to the regulations. This proposed rule, if adopted, would revise subpart I, which currently applies only to equipment and operational requirements for the longline catcher/processor subsector, so that subpart I will also apply to the equipment and operational requirements for pot CPs and for CPs and motherships participating in the halibut deck sorting program. This proposed rule, if adopted, would change the title of § 679.100 (from the current title, “Applicability”) to “Longline Catcher/Processor Subsector,” would change the title of subpart I (from the current title of “Equipment and Operational Requirements for the Longline Catcher/Processor Subsector”) to “Additional Equipment and Operational Requirements for Motherships and Catcher/Processors,” and would change all references to existing subpart I to new § 679.100. The regulations for the halibut deck sorting program, which are currently found at § 679.120 (entitled “Halibut deck sorting”) in subpart K (similarly entitled “Halibut Deck Sorting”), would be moved to subpart I and redesignated as § 679.102, with no other changes. As described further below, revised subpart I would also include new § 679.101, which would contain the new proposed pot CP monitoring requirements and which would be entitled, “Catcher/processors using pot gear for groundfish fishing.” In conclusion, these changes are intended to streamline and provide the public easier access to the regulations by placing similar monitoring regulations for CPs and motherships together.

This proposed rule includes three new regulatory elements for the pot CP sector. The first element would add paragraph (G) in § 679.51(a)(2)(vi) to require a minimum of one Level 2 observer on board a CP vessel using pot gear subject to § 679.101(a) at all times. These changes are intended to reduce the likelihood of fisheries data loss by ensuring experienced observers are deployed on board pot CP vessels. In addition, paragraph § 679.53(a)(5)(iv) (which states when a Level 2 endorsement is required) would be revised to add a reference to the new § 679.51(a)(2)(vi)(G) requirement.

The second element of this proposed rule, if adopted, would add subsection (a) in new § 679.101 to define the applicability of the proposed regulations to the owner and operator of a vessel named on an LLP license with a Pacific cod CP pot gear endorsement in the Bering Sea, Aleutian Islands, or both. In addition, this proposed rule would add paragraph (b) in new § 679.101 to require that vessels provide pre-cruise notification at least 24 hours prior to departure when the vessel will be carrying an observer who has not been deployed on that vessel within the last 12 months. In addition, when a pre-cruise meeting is requested by NMFS, the meeting must include the vessel operator or manager and the observers assigned to that vessel. The proposed changes are intended to reduce the likelihood of data loss by ensuring effective communication and collaboration between the observer(s) and the captain and crew.

The third element of this proposed rule, if adopted, would add paragraph (c) in new § 679.101 applicable to three additional voluntary monitoring options for pot CPs. The owner or operator of a vessel subject to this new section may choose any, all, or none of three voluntary monitoring options: (1) providing a certified observer sampling station with a NMFS-approved MCP scale for observer use; (2) installing a motion-compensated, NMFS-approved scale to measure the total catch of Pacific cod, in conjunction with an MCP scale for testing, electronic logbook, and video monitoring; and (3) carrying additional on-board observers. Each of these options are explained in further detail in the following sections.

Observer Sampling Station Option

The vessel operators would have the option to choose to install an observer sampling station in accordance with the specifications and requirements in § 679.28(d), including a working area of 4.5 square meters, a work table, and a MCP scale, all in proximity to where the observer can see gear retrieved and obtain fish samples (see Section 2.2.3.1 of the Analysis). An observer sampling station provides an organized work space and higher precision equipment for observer use that would improve observer data collection; however, installation of an observer sampling station can be costly. Section 679.101(c)(1) of this proposed rule would apply if a vessel operator chooses to install an observer sampling station.

Observer sampling stations provide observers with a low traffic area, in close proximity to the catch, where there is adequate space and the equipment needed to most effectively sample. An MCP scale compares the weight of fish to a reference weight at least 60 times per second, allowing the scale to compensate for the motion of the vessel, which can otherwise cause an inaccurate weight reading (see Section 2.2.3.1 of the Analysis). An MCP scale can be read to the hundredth of a kilogram, providing higher precision than the tenth of a kilogram reading obtained by the NMFS-issued brass scales or hanging Salter scale (see Section 2.2.3.1 of Analysis). Like all scales used by observers, an MCP scale must be selected from the list of approved scales published by NMFS Alaska Region (https://www.fisheries.noaa.gov/alaska/resources-fishing/scales-approved-use-sea). This option could be selected by obtaining an Observer Sampling Station Inspection Report as detailed in § 679.28(d)(10)(iii), and the MCP scale would remain in place for the 12-month duration approved in the Observer Sampling Station Inspection Report.

At-Sea Catch Weighing Option

This proposed rule includes proposed regulations at § 679.101 to authorize use of a motion-compensated, NMFS-approved total weight scale, such as a flow or hopper scale, to measure total catch of Pacific cod, in conjunction with an MCP scale for testing, electronic logbook, and video monitoring. This would authorize the use of a motion-compensated, NMFS-approved scale to measure total catch of Pacific cod weight, which may include flow scales or hopper scales certified on a case-by-case basis (see Section 2.2.3.2 of Analysis). Use of a NMFS-approved scale to measure total catch of Pacific cod would simplify observer data collection of Pacific cod total haul weights on pot CP vessels and improve precision of catch estimates. Installation of a NMFS-approved scale can be costly, and therefore this proposed rule includes regulations that would apply if a vessel chooses to install this NMFS-approved MCP scale. With proper maintenance and testing, these types of haul-level measurements eliminate the uncertainty involved in estimating total catch using a randomized sample approach. If vessel operators choose to acquire such scales, they would be required to be maintained in accordance with the scale requirements at § 679.28(b) to ensure data quality. These requirements include an initial inspection, followed by annual re-inspections by a NMFS-staff scale inspector. Additionally, daily testing by the vessel operator in the presence of an observer would be required for each calendar day the scale is used at sea. In this testing, scales must perform within 3 percent of test weights using a NMFS-approved and certified MCP scale. (Also see additional description of this testing under the discussion of option 1 of element 3 in the Analysis.) Finally, vessels choosing this option would be required to record test results through an electronic logbook, and use video to monitor the flow of catch and ensure no scale tampering has occurred; these recording and monitoring requirements would be similar to the requirements of the BSAI Pacific cod hook-and-line fishery (79 FR 68610, November 18, 2014). This option could be selected by obtaining a Scale Inspection Report as detailed in § 679.28(b)(2)(vii) and if selected, the option would remain in place for the 12-month duration approved in the Scale Inspection Report.

Additional Observer Option

This proposed rule, if adopted, would add language in subsection (c) of new § 679.101 and in § 679.51(a)(2)(vi) to authorize a vessel to choose to carry additional onboard observers. Carrying an additional observer could reduce the likelihood of data loss. The addition of observers may reduce observer workload and could allow observers to support and advise each other about their collection duties, and, therefore, potentially could lead to fewer data collection errors and to an increase the amount of samples conducted. This option is already allowed under existing monitoring provisions (§ 679.51) that allow a vessel to choose to contract with an observer provider to carry more than one observer. This proposed rule, if adopted, would add provisions that expressly authorize and apply to the practice of voluntarily adding observers. If a vessel chooses this option, one observer would be required to meet the Level 2 endorsement requirement in this proposed rule.

Classification

NMFS is issuing this proposed rule pursuant to section 304(b)(1)(A) and 305(d) of the Magnuson-Stevens Act. This proposed action is necessary for implementation of the BSAI FMP because the monitoring requirements in this action are expected to improve the quality of the data that is needed to administer the fishery management programs implemented under this FMP. The NMFS Assistant Administrator has determined that this proposed rule is consistent with the FMP, other provisions of the Magnuson-Stevens Act, and other applicable laws, subject to further consideration of comments received during the public comment period.

This proposed rule has been determined to be not significant for the purposes of Executive Order 12866.

A Regulatory Impact Review (RIR or Analysis) was prepared to assess the costs and benefits of available regulatory alternatives. A copy of this Analysis is available from NMFS (see ADDRESSES). NMFS is recommending this proposed rule based on those measures that maximize net benefits to the Nation.

The Chief Counsel for Regulation of the Department of Commerce certified to the Chief Counsel for Advocacy of the Small Business Administration that this proposed rule, if adopted, would not have a significant economic impact on a substantial number of small entities.

The factual basis for this determination is described as follows. This proposed rule, if adopted, would directly regulate the owners and operators of CPs participating in BSAI groundfish fisheries using pot gear. This action would require participants to carry at least one Level 2 observer deployed at all times, and would require participants to comply with pre-cruise meeting notifications. This action also would require certification and testing standards for participants choosing any of the following additional, voluntary monitoring options: providing observer sampling stations, installing motion-compensated platform and flow scales, and carrying additional observers on vessel. For Regulatory Flexibility Act (RFA) purposes only, the National Marine Fisheries Service (NMFS) established a small business size standard for businesses, including their affiliates, whose primary industry is commercial fishing (see 50 CFR 200.2). A business primarily engaged in commercial fishing (NAICS code 11411) is classified as a small business if it is independently owned and operated, is not dominant in its field of operation (including its affiliates) and has combined annual receipts less than $11 million for all its affiliated operations worldwide. The RFA also requires consideration of affiliations between entities for the purpose of assessing whether an entity is classified as small. If business entities are affiliated, then the threshold for identifying small entities is applied to the group of affiliated entities rather than on an individual entity basis. NMFS has determined that vessels that are members of a fishing cooperative are affiliated when classifying them for purposes of the RFA.

Of the six active vessels that held LLP licenses endorsed for Pacific cod CP pot landings in 2021, five vessels were affiliated with either a Bering Sea Crab Rationalization Program Cooperative or the Freezer Longline Conservation Cooperative. All of those cooperatives have 5-year (2017-2021) average gross annual revenues greater than $11 million, and would therefore not be considered small entities for RFA purposes. The remaining vessel that was not affiliated with a fishing cooperative was affiliated with additional vessels, and the combined annual receipts of all of the affiliated vessels (using an average aggregated over the 5-year period of 2017-2021) exceeded the $11 million threshold and therefore is not considered a small entity under the RFA.

Based on this analysis, NMFS has determined there are no small entities affected by this proposed rule. Therefore, this action would not have a significant economic impact on a substantial number of small entities. As a result, an initial regulatory flexibility analysis is not required and none has been prepared.

Collection-of-Information Requirements

This proposed rule contains collection-of-information requirements subject to review and approval by the Office of Management and Budget (OMB) under the Paperwork Reduction Act (PRA). This proposed rule, if adopted, would revise existing collection-of-information requirements for OMB Control Number 0648-0318 (North Pacific Observer Program), and revise and extend for 3 years existing collection-of-information requirements for OMB Control Numbers 0648-0330 (NMFS Alaska Region Scale and Catch Weighing Requirements) and 0648-0515 (Alaska Interagency Electronic Reporting System). However, because the collection of information authorized by 0648-0318 is concurrently being revised by a separate action, the revision to that collection of information for this proposed rule will be assigned a temporary control number that will later be merged into 0648-0318. The public reporting burden estimates for the collection-of-information requirements provided below include the time for reviewing instructions, searching existing data sources, gathering and maintaining the data needed, and completing and reviewing the collection of information.

OMB Control Number 0648—TEMPORARY

This proposed rule, if adopted, would revise the collection of information under OMB Control Number 0648-0318, associated with the North Pacific Observer Program. Due to a concurrent action for this collection, the collection-of-information requirements will be assigned a temporary control number that will later be merged into this control number. This proposed rule, if adopted, would require that the North Pacific Observer Program be notified by phone at least 24 hours prior to departure when a vessel will carry an observer who has not deployed on that vessel in the past 12 months. The public reporting burden per notification to the North Pacific Observer Program by phone is estimated to be 5 minutes.

OMB Control Number 0648-0330

NMFS proposes to revise and extend by 3 years the existing requirements for OMB Control Number 0648-0330. This collection contains catch weighing and monitoring requirements for catch share programs in the BSAI and Gulf of Alaska. This collection would be revised to include two of the voluntary monitoring options for BSAI pot CPs: the option to provide a certified observer sampling station with a NMFS-approved MCP scale for observer use; and the option to install a motion-compensated, NMFS-approved scale to measure the total catch of Pacific cod, in conjunction with an MCP scale for testing and video monitoring. This proposed rule would require testing and inspections of the observer sampling station and NMFS-approved scales. This proposed rule would not change the public reporting burdens for the collection-of-information requirements under this control number. The public reporting burden per individual response is estimated to average 10 minutes for the inspection request form for observer sampling stations, at-sea scales, and video monitoring systems; 1 minute for maintenance of observer sampling stations; 1 minute each for maintenance for hopper and flow scales; 2 minutes for observer notification of daily scale tests; 10 minutes each for the recording of daily flow scale tests and recording of daily hopper scale tests; 1 minute each for printed reports of catch and cumulative weight, the audit trail, the calibration log, and the fault log; 12 hours for installation of the video monitoring system; 1 minute for maintenance of the video monitoring system; 2 hours to submit the video monitoring data; 10 minutes for notification of the Pacific cod monitoring option; 40 hours for the catch monitoring and control plan; and 16 hours for the crab monitoring plan.

OMB Control Number 0648-0515

NMFS proposes to revise and extend by 3 years the existing requirements for OMB Control Number 0648-0515. This collection contains the landing reports, production reports, and logbooks submitted through the Alaska Interagency Electronic Reporting System, which provides the Alaska fishing industry with a consolidated, electronic means of reporting commercial fish and shellfish information to multiple management agencies through a single reporting system. This collection would be revised because one of the voluntary monitoring options would require use of an electronic logbook. This proposed rule, if adopted, would not change the public reporting burdens for the collection-of-information requirements under this control number. The public reporting burden per individual response is estimated to average 15 minutes for the electronic logbooks, 15 minutes to register for eLandings, 10 minutes for the shoreside processor production report, 20 minutes for the at-sea production report, 10 minutes for the mothership landing report, 20 minutes for the out-of-state landing report, 30 minutes each for the shoreside processors landing report and the catcher/processor landing report, 35 minutes for the tender landing report, and 1 hour each for the registered buyer landing report for individual fishing quota (IFQ)/community development quota (CDQ) and the registered crab receiver landing report for IFQ/CDQ.

Public Comment on Collection-of-Information Requirements

NMFS seeks public comment regarding the following: (1) whether this proposed collection of information is necessary for the proper performance of the functions of the agency, including whether the information shall have practical utility; (2) the accuracy of the burden estimate; (3) ways to enhance the quality, utility, and clarity of the information to be collected; and (4) ways to minimize the burden of the collection of information, including through the use of automated collection techniques or other forms of information technology. Submit comments on these or any other aspects of the collections of information to NMFS Alaska Region (see ADDRESSES), or at www.reginfo.gov/public/do/PRAMain.

Notwithstanding any other provision of law, no person is required to respond to, and no person shall be subject to penalty for failure to comply with, a collection of information subject to the requirements of the PRA, unless that collection of information displays a currently valid OMB control number.

List of Subjects in 50 CFR Part 679

Alaska, Fisheries, Reporting and recordkeeping requirements.

Dated: June 29, 2023.
Samuel D. Rauch, III,
Deputy Assistant Administrator for Regulatory Programs, National Marine Fisheries Service.

For the reasons set out in the preamble, NMFS proposes to amend 50 CFR part 679 as follows:

PART 679—FISHERIES OF THE EXCLUSIVE ECONOMIC ZONE OFF ALASKA

1. The authority citation for 50 CFR part 679 continues to read as follows:

Authority: 16 U.S.C. 773 et seq.; 1801 et seq.; 3631 et seq.; Pub. L. 108-447; Pub. L. 111-281.

2. Amend § 679.51, by adding paragraph (a)(2)(vi)(G) to read as follows:

§ 679.51 Observer and Electronic Monitoring System requirements for vessels and plants.

(a) * * *

(2) * * *

(vi) * * *

(G) Catcher/processors using pot gear for groundfish fishing. A catcher/processor subject to § 679.101(a) must comply with the following observer coverage requirements:

(1) Observer coverage. A catcher/processor must have aboard at least one Level 2 observer, as defined in § 679.53(a)(5)(iv).

(2) Increased observer coverage option. A catcher/processor may carry more than one observer. A vessel choosing this option must have aboard at least one Level 2 observer as described in paragraph (a)(2)(vi)(G)(1) of this section.

* * * * *

§ 679.53 [Amended]

3. Amend § 679.53, by removing in paragraph (a)(5)(iv) introductory text the phrase “§ 679.51(a)(2)(vi)(A) through (E)” and adding, in its place the phrase, “§ 679.51(a)(2)(vi)(A) through (G).”

4. In part 679, revise the heading of subpart I to read as follows:

Subpart I—Additional Equipment and Operational Requirements for Motherships and Catcher/Processors

5. Amend § 679.100 by revising the section heading, the introductory paragraph, paragraph (a), and the introductory text of paragraph (b) to read as follows:

§ 679.100 Longline Catcher/Processor Subsector.

The owner and operator of a vessel named on an LLP license with a Pacific cod catcher/processor hook-and-line endorsement for the Bering Sea, Aleutian Islands or both the Bering Sea and Aleutian Islands subareas (BSAI) must comply with the requirements of this section.

(a) Opt out selection. Each year, the owner of a vessel subject to this section who does not intend to directed fish for Pacific cod in the BSAI or conduct groundfish CDQ fishing at any time during a year may, by November 1 of the year prior to fishing, submit to NMFS a completed notification form to opt out of directed fishing for Pacific cod in the BSAI and groundfish CDQ fishing in the upcoming year. The notification form is available on the NMFS Alaska Region website (https://alaskafisheries.noaa.gov/). Once the vessel owner has selected to opt out, the owner must ensure that the vessel is not used as a catcher/processor to conduct directed fishing for Pacific cod with hook-and-line gear in the BSAI or to conduct groundfish CDQ fishing during the specified year.

(b) Monitoring option selection. The owner of a vessel subject to this section that does not opt out under paragraph (a) of this section must submit a completed notification form for one of two monitoring options to NMFS. The notification form is available on the NMFS Alaska Region website (https://alaskafisheries.noaa.gov/). The vessel owner must comply with the selected monitoring option at all times when the vessel is operating in either the BSAI or GOA groundfish fisheries when directed fishing for Pacific cod is open in the BSAI, or while the vessel is groundfish CDQ fishing. If NMFS does not receive a notification to opt out or a notification for one of the two monitoring options, NMFS will assign that vessel to the increased observer coverage option under paragraph (b)(1) of this section until the notification form has been received by NMFS.

* * * * *

6. In subpart I, add § 679.101 to read as follows:

§ 679.101 Catcher/processors using pot gear for groundfish fishing.

(a) Applicability. The owner and operator of a vessel named on an LLP license with a Pacific cod catcher/processor pot gear endorsement for the Bering Sea, Aleutian Islands or both the Bering Sea and Aleutian Islands subareas (BSAI) must comply with the requirements of this section when using pot gear for groundfish fishing as a catcher/processor in the Bering Sea or Aleutian Islands.

(b) Pre-cruise meeting. The Observer Program must be notified by phone at 1 (907) 581-2060 (Dutch Harbor, AK) or 1 (907) 481-1770 (Kodiak, AK) at least 24 hours prior to departure when the vessel will be carrying an observer who has not previously been deployed on that vessel within the last 12 months. Subsequent to the vessel's departure notification, but prior to departure, NMFS may contact the vessel to arrange for a pre-cruise meeting. If requested by NMFS, the pre-cruise meeting must minimally include the vessel operator or manager and any observers assigned to the vessel.

(c) Additional monitoring options. The owner or operator of a vessel subject to this section may choose any, all, or none of the following monitoring options described in paragraphs (c)(1) through (3) of this section. Should an owner or operator choose any of these monitoring options, the owner and operator must comply with the applicable requirements described in paragraphs (c)(1) through (3) of this section.

(1) Observer sampling station option. Under this option, an observer sampling station meeting the requirements at § 679.28(d), unless otherwise approved by NMFS, must be provided for observer use. This option is selected by obtaining an Observer Sampling Station Inspection Report as detailed in § 679.28(d)(10)(iii) and will remain in place for the 12-month duration approved in the Observer Sampling Station Inspection Report.

(2) Increased observer coverage option. Under this option, if two observers are aboard the vessel meeting the requirements at § 679.51(a)(2)(vi)(G)(2), at least one of the observers must be endorsed as a Level 2 observer in accordance with § 679.53(a)(5)(iv).

(3) NMFS-approved total catch weighing scales option. Under this option, a vessel owner and operator may install a NMFS-approved scale for weighing total catch of Pacific cod. This option is selected by obtaining a Scale Inspection Report as detailed in § 679.28(b)(2)(vii) and will remain in place for the 12-month duration approved in the Scale Inspection Report. Under this option—

(i) A vessel owner and operator with an approved Scale Inspection Report must ensure that—

(A) All Pacific cod brought on board the vessel is weighed on a NMFS-approved scale in compliance with the scale requirements at § 679.28(b), and that each set is weighed and recorded separately.

(B) The vessel is in compliance with the video monitoring requirements described at § 679.28(k).

(C) The vessel is in compliance with the requirements for electronic logbooks at § 679.5(f) at all times during that year.

(ii) [Reserved]

§ 679.120 [Redesignated as § 679.102 and Amended]

7. Redesignate § 679.120 of Subpart K to § 679.102 of Subpart I, and remove all references to “§ 679.120” and adding, in their place, “§ 679.102” in the following places:

a. § 679.2;

b. § 679.7(e)(1), (2), (3), and (10);

c. § 679.28(d)(9), (d)(10)(iii)(A), and (l);

d. § 679.32(c)(3)(i)(C)(4);

e. § 679.51(a)(2)(vi)(F);

f. § 679.63(a)(1);

g. § 679.84(c)(1); and

h. § 679.93(c)(1).

Subpart K [Reserved]

8. Reserve subpart K.

[FR Doc. 2023-14174 Filed 7-5-23; 8:45 am]

BILLING CODE 3510-22-P